DEPARTMENT OF TRANSPORTATION

Federal Aviation Administration

14 CFR Part 71

[Docket No. FAA-2009-0196; Airspace Docket No. 09-AAL-3]

Establishment of Class E Airspace; Oooguruk, AK

AGENCY: Federal Aviation Administration (FAA), DOT.

ACTION: Final Rule.

SUMMARY: This action establishes Class E airspace at Oooguruk, AK, providing controlled airspace to contain aircraft executing special Instrument Approach Procedures (IAPs) at two heliport facilities, Oooguruk Drill Site Helipad, and Oooguruk Tie-in Helipad, Oooguruk, AK. Also, this action makes a minor change in the description for the Oooguruk Drill Site Helipad. The FAA is taking this action to enhance the safety and management of Instrument Flight Rules (IFR) operations at Oooguruk, AK.

DATES: Effective Date: 0901 UTC, October 22, 2009. The Director of the Federal Register approves this incorporation by reference action under title 1, Code of Federal Regulations, part 51, subject to the annual revision of FAA Order 7400.9 and publication of conforming amendments.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.faa.gov/about/office_org/headquarters_offices/ato/service_units/systemops/fs/alaskan/rulemaking/.

SUPPLEMENTARY INFORMATION:

History

On Wednesday April 15, 2009, the FAA proposed to amend Title 14 Code of Federal Regulations (14 CFR) part 71, to establish Class E airspace upward from 700 ft. above the surface and from 1,200 ft. above the surface at two heliport facilities at Oooguruk, AK (74 FR 17443). Subsequent to publication, the FAA found that a sentence referencing exclusion of restricted airspace in the description for the Oooguruk Drill Site Helipad was inadvertantly omitted. This action corrects this error. Class E controlled airspace extending upward from 700 ft. and 1,200 ft. above the surface in the Oooguruk heliport area is established by this action.

Interested parties were invited to participate in this rulemaking proceeding by submitting written comments on the proposal to the FAA. No comments were received. The rule, with the clarification of the airspace description of the Drill Site Helipad, is adopted as proposed.

The Class E airspace areas designated as 700/1,200 ft. transition areas are published in paragraph 6005 of FAA Order 7400.9S, Airspace Designations and Reporting Points, signed October 3, 2008, and effective October 31, 2008, which is incorporated by reference in 14 CFR 71.1. The Class E airspace designations listed in this document will be published subsequently in the Order.

The Rule

This amendment to 14 CFR part 71 establishes Class E airspace extending 700 and 1,200 feet above the surface at Oooguruk, AK. New special IAPs have been developed for two heliport facilities, Oooguruk Drill Site Helipad, and Oooguruk Tie-in Helipad, that will provide adequate controlled airspace for IFR operations at these landing sites. Also, added to the airspace description for the Drill Site Helipad will be “* * *, excluding of that portion within R-2204 when R-2204 is active.”

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103, Sovereignty and use of airspace. Under that section, the FAA is charged with prescribing regulations to ensure the safe and efficient use of the navigable airspace. This regulation is within the scope of that authority because it creates Class E airspace sufficient in size to contain aircraft executing instrument procedures for the two helipads at Oooguruk, AK and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9S, Airspace Designations and Reporting Points, signed October 3, 2008, and effective October 31, 2008, is amended as follows:

Paragraph 6005 Class E Airspace Extending Upward from 700 feet or More Above the Surface of the Earth.

* * * * *

AAL AK E5 Oooguruk Drill Site Helipad, AK [New]

Oooguruk, Oooguruk Drill Site Helipad, AK

(Lat. 70°29′44″ N., long. 150°15′12″ W.)

That airspace extending upward from 700 feet above the surface within a 6-mile radius of the Oooguruk Drill Site Helipad, AK; and that airspace extending upward from 1,200 feet above the surface within a 73-mile radius of the Oooguruk Drill Site Helipad, AK, excluding that portion within R2204 when R2204 is active.

* * * * *

AAL AK E5 Oooguruk Tie-in Helipad, AK [New]

Oooguruk, Oooguruk Tie-in Helipad, AK

(Lat. 70°24′51″ N., long. 150°01′07″ W.)

That airspace extending upward from 700 feet above the surface within a 6-mile radius of the Oooguruk Tie-in Helipad AK, excluding that portion within R2204 when R2204 is active; and that airspace extending upward from 1,200 feet above the surface within a 73-mile radius of the Oooguruk Tie-in Helipad, AK, excluding that portion within R2204 when R2204 is active.

* * * * *

Issued in Anchorage, AK, on August 20, 2009.
James L. Krause,
Acting Manager, Alaska Flight Services Information Area Group.

[FR Doc. E9-21061 Filed 9-2-09; 8:45 am]

BILLING CODE 4910-13-P